DEPARTMENT OF AGRICULTURE

Food Safety and Inspection Service

[Docket No. FSIS-2006-0028]

Risk-Based Inspection System

AGENCY: Food Safety and Inspection Service, USDA.

ACTION: Notice of public meeting.

SUMMARY: The Food Safety and Inspection Service (FSIS) will hold a public meeting on October 10-11, 2006, to review and discuss the following issues: (1) Measuring product inherent risk for risk-based inspection, and

(2) Measuring establishment risk control for risk-based inspection. In addition, FSIS will begin a discussion on how these two measures of risk might be used to implement a Risk-Based Inspection System (RBIS). FSIS will use Resolve, a national non-profit organization, to assist with the stakeholder input process. Resolve specializes in mediating, facilitating, and building consensus on solutions to scientifically complex public policy issues, including those in the areas of food safety, agriculture, and public health.

DATES: FSIS will hold a public meeting on Tuesday, October 10, and Wednesday, October 11, 2006, from 9:30 a.m. to 5:30 p.m.

ADDRESSES: The public meeting will be held at George Mason University, 3401 N. Fairfax Drive, Arlington, VA 22201. The specific room information for the meeting, directions to the site, and the agenda will be posted on the risk-based inspection (RBI) Web site at http://www.fsis.usda.gov/regulations_&_policies/Risk_Based_Inspection/. The meeting will be broadcast electronically for viewing in selected locations in other parts of the country. Those locations and information on the telecasts will also be posted on the RBI Web site. Members of the public are required to pre-register for the meeting (see Background). Online registration information is also located on the RBI Web site above.

FSIS welcomes comments on the topics to be discussed at the public meeting. The Agency's technical papers relating to (1) Measuring product inherent risk for risk-based inspection, and (2) Measuring establishment risk control for risk-based inspection are posted at the FSIS Web site above. Comments on these papers may be submitted by any of the following methods through October 27, 2006:

Electronic mail: An e-mail box has been established specifically for RBI comments for the public meeting on October 10-11. Comments can be submitted to riskbasedinspection@fsis.usda.gov.

Mail, including floppy disks or CD-ROM's: Send to Ellyn Blumberg, RBI Public Meeting, United States Department of Agriculture, Food Safety and Inspection Service, 14th & Independence Avenue, SW., Mail Drop 405 Aerospace, Washington, DC 20250.

Hand-or courier-delivered items: Deliver to Ellyn Blumberg at 901 D Street, SW., Washington, DC. To deliver these items, the security guard must first call (202) 690-6520.

Facsimile: Fax RBI comments to (202) 690-6519.

All submissions received must include the Agency name and docket number FSIS-2006-0028. The comments also will be posted on the Agency's Web site at http://www.fsis.usda.gov/regulations_&_policies/Risk_Based_Inspection/.

FOR FURTHER INFORMATION CONTACT: Robert Tynan for technical information at (202) 720-3884 or e-mail robert.tynan@fsis.usda.gov. Contact Ellyn Blumberg for meeting information at (202) 720-0087, Fax (202) 690-6519, or e-mail ellyn.blumberg@fsis.usda.gov. Persons requiring a sign language interpreter or other special accommodations should notify the agency contacts no later than September 26, 2006, at the numbers above or by e-mail.

SUPPLEMENTARY INFORMATION:

Background

FSIS is the public health regulatory agency in the U.S. Department of Agriculture (USDA) responsible for ensuring that the nation's commercial supply of meat, poultry, and egg products is safe, wholesome, and correctly labeled and packaged. FSIS is accountable for protecting the lives and well-being of 295 million U.S. citizens and millions more around the world.

To meet the realities of food safety and public health challenges, FSIS is working to make its inspection system more risk-based and to continue to implement science-based policies. Although the Agency acknowledges that some types of meat and poultry products pose greater health risks than others, and some establishments control risks better than others, under the current system of processing inspection, a Consumer Safety Inspector visits every plant at least once every shift to perform a variety of verification procedures scheduled by the Performance Based Inspection System (PBIS). PBIS schedules inspection procedures the same way in all processing plants, regardless of the particular food safety hazard associated with the products produced and processes performed at one plant versus another.

In July 2004, the Agency outlined the basic features of a predictive model that would permit FSIS to improve resource allocation by considering the inherent risks and risk control effectiveness of the many meat and poultry establishments under Federal inspection. Since that time, FSIS has continued developing and refining these ideas. In November 2005, FSIS addressed the National Advisory Committee on Meat and Poultry Inspection (NACMPI) on Agency progress toward a RBIS. In May 2006, the Agency again addressed NACMPI—this time on ideas the Agency has on measuring establishment risk control effectiveness for RBI.

Reductions in the number of illnesses attributed to the consumption of adulterated meat and poultry products can be achieved by placing greater inspection and verification emphasis on establishments whose processes, owing to the nature and volume of their production, require greater control of the risks. FSIS believes that it can improve public health by dedicating fewer inspection resources to processing establishments that produce products that present low inherent risk and that exercise effective risk control, and shifting those resources towards processing establishments that produce products that present high inherent risk and that have less effective risk control.

At this meeting, FSIS will present some ideas about how the Agency can develop measures of inherent food safety risk for federally-inspected meat and poultry processing establishments and to solicit stakeholder input on the subject. The Agency will also accept stakeholder input on how to measure establishment control of risk. FSIS previously presented information on this topic at a meeting of NACMPI last May. Finally, FSIS will accept stakeholder input on some initial concepts on how the two measures of risk might be used to implement RBIS.

FSIS is using Resolve, a national non-profit organization, to assist with the stakeholder input process. Resolve specializes in mediating, facilitating, and building consensus on solutions to scientifically complex public policy issues, including those in the areas of food safety, agriculture, and public health.

All interested parties are welcome to attend the meetings and to submit written comments and suggestions through October 27, 2006. The comments and the official transcript of the meeting, when they become available, will be posted on the Agency's Web site at http://www.fsis.usda.gov/regulations_&_policies/Risk_Based_Inspection/. All comments received in response to this notice will be considered part of the public record.

Members of the public are required to pre-register for the meeting. Online registration information is located at http://www.fsis.usda.gov/regulations_&_policies/Risk_Based_Inspection/.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS will also make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on: September 21, 2006.
Barbara J. Masters,
Administrator.

[FR Doc. E6-15866 Filed 9-26-06; 8:45 am]

BILLING CODE 3410-DM-P